DEPARTMENT OF HEALTH AND HUMAN SERVICES

Food and Drug Administration

[Docket Nos. FDA-2023-N-2562; FDA-2023-N-2707; FDA-2023-N-1005; FDA-2023-N-2459; FDA-2023-N-1029; and FDA-2023-N-3007]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Amber Sanford, Office of Operations, Food and Drug Administration, Three White Flint North, 10A-12M, 11601 Landsdown St., North Bethesda, MD 20852, 301-796-8867, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Temporary Marketing Permit Applications | 0910-0133 | 1/31/2027
State Petitions for Exemption from Preemption | 0910-0277 | 1/31/2027
FDA Focus Groups and Interviews | 0910-0497 | 1/31/2027
Product Jurisdiction and Combination Products | 0910-0523 | 1/31/2027
Cosmetic Labeling and Cosmetic Registration | 0910-0599 | 1/31/2027
Registration of Human Drug Compounding Outsourcing Facilities under Section 503B of the FFDCA and Associated Fees under Section 744K | 0910-0776 | 1/31/2027

Dated: January 17, 2024.
Lauren K. Roth,
Associate Commissioner for Policy.

[FR Doc. 2024-01153 Filed 1-22-24; 8:45 am]

BILLING CODE 4164-01-P